DEPARTMENT OF COMMERCE

Patent and Trademark Office

[Docket No.: PTO-T-2025-0024]

Change in Time Initially Set To File an Answer in a Trial Proceeding Before the Trademark Trial and Appeal Board

AGENCY: United States Patent and Trademark Office, Department of Commerce.

ACTION: Notice.

SUMMARY: The Trademark Trial and Appeal Board (TTAB) is revising its practice in setting the initial period of time to answer or submit an acceptable response to a complaint in a TTAB trial proceeding as a result of a re-calculation of time to respond to a provisional refusal pursuant to the Madrid Protocol. Currently, TTAB's established time period for response is forty (40) days from the notice of institution of the TTAB proceeding (“institution order”). The period to file a response is now revised to sixty (60) days from the date of the institution order. This amendment has no impact or effect on the current TTAB Rules of Procedure.

DATES: This amendment is effective for TTAB proceedings instituted on or after September 4, 2025.

FOR FURTHER INFORMATION CONTACT: For general questions regarding this revision, please contact Cheryl Butler, Senior Level Attorney, at 571-272-4259 or Cheryl.Butler@uspto.gov, or to TTABFeedback@uspto.gov.

SUPPLEMENTARY INFORMATION: The TTAB adjudicates trial proceedings pursuant to 15 U.S.C. 1063 (Opposition) and 15 U.S.C. 1064 (Cancellation). At the commencement of a TTAB proceeding, the TTAB issues an institution order establishing the trial schedule, including the time to file an answer or acceptable response. The notice of institution shall designate a time, “not less than thirty days from the mailing date of the notice” within which an answer must be filed. 37 CFR 2.105(a) (Notification to parties of opposition proceeding(s)) and 37 CFR 2.113(a) (Notification of cancellation proceeding). Customarily, TTAB establishes the response time period of 40 days.

The United States is a member of the Madrid Protocol, an international treaty intended to simplify the international trademark registration process by allowing a trademark owner to seek registration in any of the participating countries by filing a single international application. The Madrid Protocol came into force in the United States on November 2, 2003, and is implemented under 15 U.S.C. 1141 et seq. and 37 CFR parts 2 and 7. Each member or contracting party to the Madrid Protocol is represented in the Madrid Union Assembly, which meets annually to vote on proposed changes to the Regulations under the Madrid Protocol, and is obligated to implement any changes to the Madrid Regulations once adopted. Madrid Regulation Rule 17(2)(vii), as amended, entered into force on November 1, 2023, and set a time limit “which shall be no less than two months” to respond to a provisional refusal based on an opposition. Footnote 2 to Madrid Regulation Rule 17(2)(vii) clarifies that 60 calendar or 60 consecutive days meets the two-month requirement. Pursuant to Madrid Regulation Rule 40(8), a transitional period was provided to member or contracting parties until February 1, 2025, or later provided notification was sent to the International Bureau before February 1, 2025, that the contracting party would continue to apply the rule in force prior to November 1, 2023. The USPTO notified WIPO on January 31, 2025, that the United States would continue to apply Madrid Regulation Rules 17(2)(v) and (vii) and (3) and 18(1)(e), as in force prior to November 1, 2023, until the USPTO withdraws the notice.

In light of the amendment to Rule 17(2)(vii) of the Madrid Regulations, the TTAB is establishing the time period to file an answer or acceptable response for all TTAB proceedings to 60 days from the date of the institution order. This revision aligns the USPTO's regulations to the treaty obligations and provides consistency that allows for better docket management. The TTAB, after setting the initial 60-day schedule, may, in subsequent scheduling orders, reset the time for an answer or acceptable response to be shorter than a 60-day period.

Coke Morgan Stewart,
Acting Under Secretary of Commerce for Intellectual Property and Acting Director of the United States Patent and Trademark Office.

[FR Doc. 2025-16930 Filed 9-3-25; 8:45 am]

BILLING CODE 3510-16-P